DEPARTMENT OF AGRICULTURE

Departmental Management, Office of Procurement and Property Management; Notice of Request for Comments on Extension of a Currently Approved Information Collection

AGENCY: Departmental Management, Department of Agriculture.

ACTION: Notice and request for comments.

SUMMARY: This notice announces the Department of Agriculture, Departmental Management, Office of Procurement and Property Management's intention to request an extension of a currently approved information collection, Guidelines for Designating Biobased Products for Federal Procurement.

DATES: Comments on this notice must be received by November 20, 2017 to be assured of consideration.

ADDRESSES: The Office of Procurement and Property Management invites interested persons to submit comments on this notice. Comments may be submitted by one of the following methods:

• Federal eRulemaking Portal: This Web site provides the ability to type short comments directly into the comment field on this Web page or attach a file for lengthier comments. Go to http://www.regulations.gov. Follow the instructions for submitting comments.

• Email: biopreferred_support@amecfw.com. Include “Notice on Request for Comments on Extension of a Currently Approved Information Collection” on the subject line. Please include your name and address in your message.

• Mail/commercial/hand delivery: Mail or deliver your comments to: Karen Zhang, USDA, Office of Procurement and Property Management, 1400 Independence Ave. SW., Washington, DC 20250.

Instructions: All items submitted by mail or electronic mail must include the Agency name (Office of Procurement and Property Management). Comments received in response to this notice will be made available for public inspection and posted without change, including any personal information, to http://www.regulations.gov.

FOR FURTHER INFORMATION CONTACT: Karen Zhang, USDA, Office of Procurement and Property Management, 1400 Independence Ave. SW., Washington, DC 20250.

SUPPLEMENTARY INFORMATION: In accordance with the Paperwork Reduction Act of 1995 (44 U.S.C. Chapter 35), this notice announces the intention of the USDA, Office of Procurement and Property Management, to request approval for an extension of an existing collection.

Title: Guidelines for Designating Biobased Products for Federal Procurement.

OMB Control Number: 0503-0011.

Expiration Date of Approval: March 31, 2018.

Type of Request: Extension of a currently approved information collection.

Abstract: The USDA BioPreferred Program provides that qualifying biobased products that fall under product categories (generic groups of biobased products) that have been designated for preferred procurement by rule making are required to be purchased by Federal agencies in lieu of their fossil energy-based counterparts, with certain limited exceptions. Further, USDA is required by section 9002 of the Farm Security and Rural Investment Act of 2002, as amended by the Food, Conservation, and Energy Act of 2008 and the Agricultural Act of 2014, to provide certain information on qualified biobased products to Federal agencies. To meet these statutory requirements, USDA will gather that information from manufacturers and vendors of biobased products. The information sought by USDA can be transmitted electronically using the Web site http://www.biopreferred.gov. If for any reason the requested information cannot be electronically transmitted, USDA will provide technical assistance to support the transmission of information to USDA. The information collected will enable USDA to meet statutory information requirements that will then permit USDA to designate product categories for preferred procurement under the BioPreferred Program. Once product categories are designated, manufacturers and vendors of qualifying biobased products that fall under these designated product categories will benefit from preferred procurement by Federal agencies.

Estimate of Burden: Public reporting burden for this collection of information is estimated to average 40 hours per response.

Respondents: Manufacturers and vendors of biobased products. Participation is entirely voluntary.

Estimated Annual Number of Respondents: 220.

Estimated Number of Responses per Respondent: One per manufacturer or vendor.

Estimated Total Annual Burden on Respondents: 8,800 hours, one time only. Manufacturers and vendors are only asked to respond once for each stand-alone product or product family. Therefore, there is no ongoing annual paperwork burden on respondents unless they wish to add additional stand-alone products or product families. Furthermore, their participation in the BioPreferred Program is entirely voluntary.

Comments are invited on: (1) Whether the proposed collection of information is necessary for the proper performance of the functions of the agency, including whether the information will have practical utility; (2) the accuracy of the agency's estimate of the burden of the proposed collection of information, including the validity of the methodology and assumptions used; (3) ways to enhance the quality, utility, and clarity of the information to be collected; and (4) ways to minimize the burden of the collection of information on those who are to respond, including the use of appropriate automated, electronic, mechanical, or other technological collection techniques or other forms of information technology. Comments may be sent to Karen Zhang, USDA, Office of Procurement and Property Management, 1400 Independence Ave. SW., Washington, DC 20250. All comments received will be available for public inspection during regular business hours at the same address.

All responses to this notice will be summarized and included in the request for OMB (Office of Management and Budget) approval. All comments will become a matter of public record.

Dated: August 31, 2017.
Malcom A. Shorter,
Acting Assistant Secretary for Administration, U.S. Department of Agriculture.

[FR Doc. 2017-19421 Filed 9-18-17; 8:45 am]

BILLING CODE 3410-93-P